DEPARTMENT OF TRANSPORTATION

Pipeline and Hazardous Materials Safety Administration

[Docket No. PHMSA-2010-0046; Notice No. 10-1]

Safety Advisory Notice: Use of Composite Cargo Tanks Manufactured Under DOT Special Permits

AGENCY: Pipeline and Hazardous Materials Safety Administration (PHMSA).

ACTION: Safety advisory notice.

SUMMARY: This safety advisory is issued to remind all persons who manufacture or use composite cargo tank motor vehicles authorized under DOT special permits of the requirement to conduct testing to ensure that the material to be transported in the cargo tank is compatible with the materials used in the construction of the cargo tank.

FOR FURTHER INFORMATION CONTACT: Charles Hochman, Senior Advisor (Technology), Pipeline and Hazardous Materials Safety Administration, (202) 366-4545 or Donald Burger, Chief, Special Permits and General Approvals, Pipeline and Hazardous Materials Safety Administration, (202) 366-4535.

SUPPLEMENTARY INFORMATION: The Hazardous Materials Regulations (HMR; 49 CFR parts 171-180) contain specifications for the design and construction of cargo tank motor vehicles in Part 178, Subpart J (see §§ 178.320-178). Currently, the HMR do not contain include a specification for composite cargo tanks, such as fiber reinforced plastic (FRP) or glass fiber reinforced plastic (GFRP) cargo tanks.

Federal hazardous materials transportation law (Federal hazmat law; 49 U.S.C. 5101 et seq.) authorizes the Department of Transportation to issue variances—termed special permits—from the HMR in a way that achieves a safety level at least equal to the safety level required under Federal hazmat law or consistent with the public interest and Federal hazmat law, if a required safety level does not exist. That authority is delegated to the Pipeline and Hazardous Materials Safety Administration (PHMSA).

PHMSA has issued the following special permits (SPs) for the manufacture, marking, sale, and use of FRP or GFRP cargo tank motor vehicles:

SP number | Holder | Status | Expiration date
9166 | Comptank Corp. | Expired | 12/31/2009
10878 | Tankcon FRP | Active | 9/30/2010
11565 | C.P.F. Dualam | Active | 3/31/2010
11903 | Comptank Corp. | Active | 10/31/2010
12516 | Poly-Coat Systems | Active | 11/30/2010
14275 | Hawk Corp. | Active | 12/31/2011
14277 | Ascus Technology | Active | 11/30/2012
14779 | Corrosion Companies | Active | 11/30/2011

On December 30, 2009, a glass fiber reinforced plastic composite cargo tank manufactured in accordance with a special permit (DOT-SP 11903) failed catastrophically and released its entire contents onto the highway. PHMSA's investigation of the accident concluded that the failure resulted from the carriage of a material in the cargo tank that was incompatible with the materials used in the manufacture of the cargo tank. The material in question reacted with and degraded the corrosion barrier and the structural glass matrix of the tank leading to catastrophic failure.

As demonstrated by the by the December 30, 2009 incident, the shipment of a material that is not compatible with the corrosion barrier and structural glass matrix of a composite cargo tank can lead to a catastrophic failure and potentially cause serious injuries, fatalities, and property and environmental damage. All of the special permits identified above contain the following requirement:

The compatibility of the commodities and the (FRP or GFRP) cargo tank must be based on ASTM C 581 “Standard Test Method for Chemical Resistance of Thermosetting Resins Used in Glass Fiber Reinforced Structures”. Test reports must be maintained by the owner or manufacturer for as long as the cargo tank remains in active service.

PHMSA is concerned that owners and manufacturers of composite cargo tanks are not performing the required compatibility testing or maintaining test reports. To prevent another incident similar to the one that occurred on December 20, 2009, this advisory reminds all persons involved in the manufacture and use of composite cargo tank motor vehicles authorized under DOT special permits of the requirement to perform compatibility testing. Failure to perform the required compatibility testing and to maintain the test reports may result in the suspension or termination of the special permit as well as civil or criminal penalties.

Persons who offer for transportation or transport hazardous materials in violation of applicable HMR requirements may be subject to significant civil penalties and criminal fines and imprisonment. The maximum penalties depend on several factors, including the nature and circumstances, extent and gravity, and severity of the consequences of the violation, but can range up to $100,000 for a civil penalty and $500,000 and ten years in jail for a criminal penalty.

Magdy El-Sibaie,
Acting Associate Administrator for Hazardous Materials Safety.

[FR Doc. 2010-4318 Filed 3-2-10; 8:45 am]

BILLING CODE 4910-60-P